DEPARTMENT OF HEALTH AND HUMAN SERVICES

Office of the Secretary

Findings of Research Misconduct

AGENCY: Office of the Secretary, HHS.

ACTION: Notice.

SUMMARY: Findings of research misconduct have been made on the part of Rajendra Kadam, former Ph.D. student in pharmaceutical sciences, University of Colorado, Denver (UCD) (Respondent). Mr. Kadam engaged in research misconduct in research supported by National Eye Institute (NEI), National Institutes of Health (NIH), grants R01 EY018940, R01 EY017533, R24 EY017045, and RC1 EY020361. The administrative actions, including debarment for a period of three (3) years, were implemented beginning on November 13, 2018, and are detailed below.

FOR FURTHER INFORMATION CONTACT: Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Rajendra Kadam, University of Colorado, Denver: Based on an investigation conducted by UCD, the Respondent's admission, and analysis conducted by ORI in its oversight review, ORI found that Mr. Rajendra Kadam, former Ph.D. student in pharmaceutical sciences, UCD, engaged in research misconduct in research supported by NEI, NIH, grants R01 EY018940, R01 EY017533, R24 EY017045, and RC1 EY020361.

ORI found that Respondent engaged in research misconduct by knowingly and intentionally falsifying and/or fabricating data by manipulating LC-MS/MS peak area data to reduce variability and/or alter statistical significance for twenty-six (26) figures and five (5) tables in his Ph.D. thesis and in the following nine (9) published papers:

• Drug Metab. Dispos. 41:466-474, 2013 (hereafter referred to as “Drug Metab. Dispos. 2013”). Retracted in: Drug Metab. Dispos. 43(2):234, 2015 Feb.

• Mol. Pharm. 10:2350-2361, 2013 (hereafter referred to as “Mol. Pharm. 2013”). Retracted in: Mol. Pharm. 12(7):2559, 2015 July 6.

• Invest. Ophthalmol. Vis. Sci. 52(8):5387-99, 2011 (hereafter referred to as “IOVS 2011”). Retracted in: Invest. Ophthalmol. Vis. Sci. 56(3):1678, 2015 Mar 9.

• J. Control. Release 172(3):1151-60, 2013 (hereafter referred to as “J. Control. Release 2013”). Retracted in: J. Control. Release 237:186, 2016 Sep 10.

• Int. J. Pharm. 434: 140-147, 2012 (hereafter referred to as “Int. J. Pharm. 2012”). Retracted (no date provided by the journal for the retraction notice).

• Mol. Pharm. 9:605-614, 2012 (hereafter referred to as “Mol. Pharm. 2012”). Retracted in: Mol. Pharm. 12(7): 2558, 2015 July 6.

• J. Pharmacol. Exp. Ther. 332:1107-1120, 2010 (hereafter referred to as “J. Pharmacol. Exp. Ther. 2010”). Retracted in: J. Pharmacol. Exp. Ther. 352(2):326, 2015 Feb.

• Mol. Vis. 19:1198-1210, 2013 (hereafter referred to as “Mol. Vis. 2013”).

• Curr. Pharm. Biotechnol. 12(2):285-292, 2011 (hereafter referred to as “Curr. Pharm. Biotechnol. 2011”). Erratum in: Curr. Pharm. Biotechnol. 17(9):846, 2016 Jun 6.¹

¹ While this publication does not cite U.S. Public Health Service (PHS) funding in its acknowledgements, Mr. Kadam was funded through his advisor's NIH funding while performing these experiments.

Specifically, Respondent falsified data included in:

• Figures 3.10 and 3.11 of respondent's thesis (also included as Figures 10 and 11 in Drug Metab. Disposal. 2013).

• Figures 5.2-5.7 of respondent's thesis.

• Figures 4.4-4.7 of respondent's thesis (also included as Figures 4-7 of Mol. Pharm. 2013).

• Figures 7.4, 7.5, and 7.7 of respondent's thesis (also included as Figures 1-5, 7, and 8 and summarized in Tables 2 and 3 of IOVS 2011).

• Figure 6 of J. Control. Release 2013.

• Figures 6-7 of Mol. Vis. 2013.

• Figure 3 in Int. J. Pharm. 2012.

• Figures 3 and 5-7 in Mol. Pharm. 2012.

• Figure 6C in Curr. Pharm. Biotechnol. 2011.

• Tables 3-5 and Figures 1-5 in J. Pharmacol. Exp. Ther. 2010.

Mr. Kadam entered into a Voluntary Exclusion Agreement (Agreement) and voluntarily agreed:

(1) To exclude himself from any contracting or subcontracting with any agency of the United States Government and from eligibility for or involvement in nonprocurement programs of the United States Government referred to as “covered transactions” pursuant to HHS' Implementation (2 CFR part 376) of OMB Guidelines to Agencies on Governmentwide Debarment and Suspension, 2 CFR part 180 (collectively the “Debarment Regulations”) for a period of three (3) years beginning on November 13, 2018;

(2) to exclude himself from serving in any advisory capacity to PHS including, but not limited to, service on any PHS advisory committee, board, and/or peer review committee, or as a consultant for a period of three (3) years beginning on November 13, 2018; and

(3) as a condition of the Agreement, to request that the following paper be retracted:

• Mol. Vis. 19:1198-1210, 2013.

Wanda K. Jones,
Interim Director, Office of Research Integrity.

[FR Doc. 2018-26379 Filed 12-4-18; 8:45 am]

BILLING CODE 4150-31-P